DEPARTMENT OF HEALTH AND HUMAN SERVICES

Announcement of Availability of Funds for One Family Planning Clinical Training Cooperative Agreement

AGENCY: Office of Population Affairs, Office of Public Health and Science, Office of the Secretary, HHS.

ACTION: Notice.

Announcement Type: Initial Competitive Grant.

CFDA Number: 93.260.

DATES: To receive consideration, applications must be received by the Office of Public Health and Science (OPHS) Office of Grants Management no later than July 31, 2006. Applications will be considered as meeting the deadline if they are received by the OPHS Office of Grants Management no later than 5 p.m. Eastern time on the application due date. Applications will not be accepted by fax, nor will the submission deadline be extended. The application due date requirement specified in this announcement supercedes the instructions in the OPHS-1. Applications which do not meet the deadline will be returned to the applicant unread. See heading “IV. Application and Submission Information” for additional information. Executive Order 12372 comment due date: The State Single Point of Contact (SPOC) has 60 days from the due date to submit any comments.

SUMMARY: This announcement seeks applications from public and nonprofit private entities for one cooperative agreement grant to establish and operate one family planning clinical training project to serve Title X service delivery projects nationally. The project will include two components: (1) Training of clinical preceptors to work in Title X family planning service projects; and (2) conducting a national clinical training meeting every other year of the project. In close collaboration with the Office of Family Planning (OFP) project officer, the successful applicant will be responsible for the development and overall management of all components of the clinical training program. The successful applicant should anticipate substantial involvement of the OFP project officer in the conduct of this cooperative agreement.

I. Funding Opportunity Description

The Office of Family Planning (OFP)/Office of Population Affairs (OPA) announces the availability of approximately $500,000-$800,000, inclusive of indirect costs, in Fiscal Year (FY) 2006 funds to support one Family Planning Clinical Training cooperative agreement grant project. This project will have two major components:

(1) Develop, implement, and evaluate training of health care practitioners (defined as an advanced practice nurse (nurse practitioner or certified nurse midwife), physician's assistant, Doctor of Medicine or Doctor of Osteopathy who is recognized by a state to practice within the scope of the applicable state practice act or law) to act in the role of clinical preceptor in Title X family planning service projects. The role of the clinical preceptor is to provide education, mentoring, skills assessment, and monitoring of family planning clinical providers. The preceptor will ensure that health care practitioners providing direct, hands-on clinical family planning services have the most current knowledge, skills, and attitudes necessary for the effective delivery of high quality family planning services.

(2) National clinical training meeting—every other year of the project period, the successful applicant will conduct a clinical training meeting that will provide participants with current, evidence-based information on family planning and related preventive health issues, including new or emerging national standards of care, pertinent clinical topics, clinical education and counseling issues and techniques, and other topics related to family planning.

The award will be made to an organization or agency that has met all applicable requirements and demonstrates the capability to provide the proposed services.

Background

From the early 1970s until the year 2000, the OFP funded certificate family planning/women's health nurse practitioner training programs to ensure the availability of health care practitioners with expertise in family planning to work in Title X-funded clinics. In 2004, the ratio of advanced practice nurses and physician assistants to physicians working in Title X clinics was five to one, and more than 80 percent of clinical family planning services was provided by these mid-level providers. During the late 1990s, changes in both state practice requirements for nurse practitioners and in the health care system, as well as other provider and client population issues, prompted OFP to reassess the need for the certificate nurse practitioner training programs.

Beginning in fiscal year 2000, the five full-course certificate nurse practitioner programs were phased out, and replaced with two “clinical specialty” training programs. The clinical specialty training approach was developed as a means to ensure that health care practitioners had the hands-on knowledge and skills to provide effective, high quality family planning services in Title X provider agencies. From 1999 through 2005, the OFP supported two clinical specialty training centers—one serving Public Health Service (PHS) Regions I-V, and one serving PHS Regions VI-X. Content and approach of the two clinical specialty training projects varied, as did utilization patterns.

In 2004, the OFP undertook a project to reassess the effectiveness of the clinical specialty training programs, as well as current and future needs for clinical training for health care practitioners working in Title X family planning services projects. An objective, in depth review of relevant information, including historical utilization of Title X clinical specialty training; trends in methods and content of clinical training; sources of clinical training available; and relevance to family planning and the needs of health care practitioners and providers, was conducted. As part of this process, a key informant work group, made up of health care practitioners, educators, Title X service providers, medical directors, and other stakeholders, was convened. The results were analyzed, and a final report was provided. The executive summary of this report is available on the OPA Web site, http://opa.osophs.dhhs.gov and in the application kit for this announcement.

One finding of this assessment was that health care practitioners need more hands-on clinical support and training than is currently available through either the clinical specialty training programs or other training opportunities. In addition, health care practitioners find it difficult to be absent from clinics to seek formal training. Based on these findings and other relevant information, the OFP has determined an approach for future clinical training that will better meet the needs of health care practitioners and provider agencies. This notice provides information for applicants seeking funding for one family planning clinical training cooperative agreement to serve Title X-funded service providers throughout the country.

Program Statute, Regulations, Guidelines, Legislative Mandates, and Program Priorities

Applicants should use the Title X legislation, regulations, legislative mandates, and other information included in this announcement, and in the application kit, to guide them in developing their applications.

Statute: Title X of the PHS Act, 42 U.S.C. 300 et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” The broad range of services should include abstinence education. Section 1003 of the Act, as amended, authorizes the Secretary of Health and Human Services to award grants to entities to provide training for personnel to carry out family planning services programs. Section 1008 of the Act, as amended, stipulates that “none of the funds appropriated under this title shall be used in programs where abortion is a method of family planning.”

Regulations and Program Guidelines: The regulations set out at 42 CFR part 59, subpart C, govern grants to provide training for family planning service providers. Prospective applicants should refer to the regulations in their entirety. Training provided must be consistent with the requirements for providing family planning services under Title X. These requirements can be found in the Title X statute, the implementing regulations (42 CFR part 59, subpart A), and the “Program Guidelines for Project Grants for Family Planning Services” (Program Guidelines) (January 2001). In addition, any training regarding sterilization of clients as part of the Title X program should be consistent with 42 CFR part 50, subpart B (“Sterilization of Persons in Federally Assisted Family Planning Projects”). Copies of the Title X statute, applicable regulations, and Program Guidelines can be obtained by contacting the OPHS Office of Grants Management, or may be downloaded from the Office of Population Affairs (OPA) web site at http://opa.osophs.dhhs.gov, and are provided in the application kit for this announcement.

Legislative Mandates: The following legislative mandates have been part of the Title X appropriations language for each of the last several years. In developing a proposal, the applicant should consider how these legislative mandates apply to clinical training, and incorporate them as appropriate. Training content for clinical preceptors should include methods for assessing knowledge and skills of health care practitioners related to the requirements of the legislative mandates, and of providing training/technical assistance to ensure that health care practitioners have the ability to appropriately address the issues included.

• “None of the funds appropriated in this Act may be made available to any entity under title X of the Public Health Service Act unless the applicant for the award certifies to the Secretary that it encourages family participation in the decision of minors to seek family planning services and that it provides counseling to minors on how to resist attempts to coerce minors into engaging in sexual activities;” and

• “Notwithstanding any other provision of law, no provider of services under title X of the Public Health Service Act shall be exempt from any State law requiring notification or the reporting of child abuse, child molestation, sexual abuse, rape, or incest.”

Program Priorities: Each year the OFP establishes program priorities that represent overarching goals for the Title X program. Applications should be developed that include content included in the 2006 Title X program priorities as it relates to clinical training, and should provide evidence of the project's capacity to address future program priorities, as they evolve, into clinical training activities. The program priorities are as follows:

1. Assuring ongoing high quality family planning and related preventive health services that will improve the overall health of individuals;

2. Assuring access to a broad range of acceptable and effective family planning methods and related preventive health services that include natural family planning methods, infertility services, and services for adolescents; highly effective contraceptive methods; breast and cervical cancer screening and prevention that corresponds with nationally recognized standards of care; STD and HIV prevention education, counseling, and testing; extramarital abstinence education and counseling; and other preventive health services. The broad range of services does not include abortion as a method of family planning;

3. Encouraging participation of families, parents, and/or other adults acting in the role of parents in the decision of minors to seek family planning services, including activities that promote positive family relationships;

4. Improving the health of individuals and communities by partnering with community-based organizations (CBOs), faith-based organizations (FBOs), and other public health providers that work with vulnerable or at-risk populations;

5. Promoting individual and community health by emphasizing family planning and related preventive health services for hard-to-reach populations, such as uninsured or under-insured individuals, males, persons with limited English proficiency, adolescents, and other vulnerable or at-risk populations.

II. Award Information

OPA/OFP anticipates awarding one general training cooperative agreement grant in the amount of $500,000-$800,000 in FY 2006 funds, inclusive of indirect costs, to assist in the establishment and operation of one family planning clinical training project. The successful applicant should anticipate substantial involvement of the OFP project officer in the conduct of this cooperative agreement. The cooperative agreement will be funded in annual increments (budget periods), and may be approved for a project period of up to four years. Funding for all budget periods beyond the first year of the cooperative agreement is contingent upon the availability of funds, satisfactory progress of the project, and adequate stewardship of Federal funds.

III. Eligibility Information

1. Eligible Applicants: Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a cooperative agreement under this announcement. Faith-based organizations are eligible to apply for this Title X family planning clinical training cooperative agreement. Nonprofit private entities must provide proof of nonprofit status. See Section IV.2 for information regarding proof of nonprofit status.

2. Cost Sharing: None.

IV. Application and Submission Information

1. Address to Request Application Package: Application kits may be requested from, and applications submitted to: OPHS Office of Grants Management (OGM), 1101 Wootton Parkway, Suite 550, Rockville, MD 20852; 240-453-8822. Application kits are also available online through the OPHS electronic grants management Web site at https://egrants.osophs.dhhs.gov, or the government-wide grants system, Grants.gov at http://www.grants.gov. Application requests may be submitted to OGM by fax at 240-453-8823. Instructions for use of the eGrants system can be found on the OPA Web site at http://opa.osophs.dhhs.gov or requested from the OPHS Office of Grants Management.

2. Content and Form of Application Submission: Applications must be submitted on the Form OPHS-1 and in the manner prescribed in the application kit. The application narrative should be limited to 75 double-spaced pages using an easily readable serif typeface such as Times Roman, Courier, or GC Times, 12 point font. The page limit does not include budget; budget justification; required forms, assurances, and certifications as part of the OPHS-1, “Grant Application”; or appendices. All pages, charts, figures and tables should be numbered, and a table of contents provided. The application narrative should be numbered separately and clearly show the 75 page limit. If the application narrative exceeds 75 pages, only the first 75 pages of the application narrative will be reviewed. Appendices may provide curriculum vitae, organizational structure, examples of organizational capabilities, or other supplemental information which supports the application. However, appendices are for supportive information only. All information that is critical to the proposed project should be included in the body of the application. Appendices should be clearly labeled. A checklist of all required elements is included as part of the application kit.

For all non-governmental applicants, documentation of non-profit status must be submitted as part of the application. Any of the following constitutes acceptable proof of such status:

a. A reference to the Applicant organization's listing the Internal Revenue Service's (IRS) most recent list of tax-exempt organizations described in the IRS code;

b. A copy of a currently valid IRS tax exemption certificate;

c. A statement from a State taxing body, State attorney general, or other appropriate State official certifying that the applicant organization has a non-profit status and that none of the net earnings accrue to any private shareholders or individuals;

d. A certified copy of the organization's certificate of incorporation or similar document that clearly establishes non-profit status;

For local, nonprofit affiliates of State or national organizations, a statement signed by the parent organization indicating that the applicant organization is a local nonprofit affiliate must be provided in addition to any one of the above acceptable proof of nonprofit status.

A Dun and Bradstreet Universal Numbering System (DUNS) number is required for all applications for Federal assistance. Organizations should verify that they have a DUNS number or take the steps needed to obtain one. Instructions for obtaining a DUNS number are included in the application package, or can be downloaded from the OPA Web site.

Applications must include a one-page abstract of the proposed project. The abstract will be used to provide reviewers with an overview of the application, and will form the basis for the application summary in grants management documents.

Application Requirements and Content

General requirements—Applicants must provide evidence of familiarity with, and ability to provide training on, the following: (1) Family planning and related preventive health issues as indicated in the Program Priorities; (2) a process for objectively assessing the knowledge and skills of health care practitioners; (3) the clinical preceptor role; (4) current, recognized national standards of care related to family planning, reproductive health, and general preventive health measures; (5) strategies related to identifying, reporting, and providing appropriate referral for domestic and intimate partner violence, child abuse, child molestation, sexual abuse, rape, or incest as required by State laws; (6) methods to encourage parental participation in healthcare and reproductive decision-making of adolescents; (7) resistance skills for adolescents to avoid exploitation and/or sexual coercion; (8) strategies for developing collaborations, referral resources, and linkages with health and social service providers within a community; and (9) couples services that support stable, safe, and faithful committed marriages and relationships, with the goal of promoting the effective use of family planning methods and services.

Organizational Capacity—In addition, the successful applicant will demonstrate the following: (1) Significant experience in the design, development, implementation, successful completion, and evaluation of clinical training activities; (2) the ability to ensure that information is current, medically accurate, and consistent with nationally recognized standards of care; (3) the ability to translate evidence-based information into training activities; (4) the ability to manage complex clinical training on a national level; (5) the ability to successfully plan and conduct large, national meetings; and (6) knowledge of evidence-based learning theory and adult learning behavior, and the applicability to proposed training activities.

The design of the training program components, including all curricula, materials, and topic content, must be consistent with Title X statute, regulations, legislative mandates, program guidelines, and program priorities. Planning for the preceptor training course should include determining the mechanisms necessary to evaluate knowledge and skills of potential preceptors related to the requirements of this announcement, as well as techniques for ensuring that needs identified are incorporated in the preceptor training course.

The applicant should propose an approach to ensure that preceptor training is appropriate for various levels of professional preparation, e.g., physicians, advanced practice nurses, and physician assistants. In addition, the applicant should describe how professional licensure and insurance issues for preceptor training program participants will be addressed.

It is expected that the applicant will provide detailed information regarding organizational capacity and expertise of proposed faculty and staff. Applicants should propose a staffing pattern with sufficient detail for reviewers to assess adequacy related to the proposed work plan and expertise required to carry out the project.

The proposed budget should be consistent with the requirements of the family planning clinical training cooperative agreement, and proposed project activities should be tied directly to budgeted costs. Both the final project plan and plan for utilization of funds will be negotiated with the OFP project officer within 90 days of cooperative agreement award.

Component requirements: Applicants should be specific in describing their approach to the requirements under each of the following components:

Component I: Develop, Implement, and Evaluate a Clinical Preceptor Training

Program Requirements

It is expected that the successful applicant will develop a clinical preceptor training course for experienced health care practitioners to prepare them to serve in the role of clinical preceptor in Title X service delivery sites. Clinical preceptor trainees will be recruited from Title X service delivery sites, and will return to the site in the preceptor role. Health care practitioners trained as clinical preceptors are expected to utilize knowledge and skills gained to ensure that health care practitioners providing direct service in Title X-funded clinics have the knowledge, skills, and attitudes to provide effective, high quality family planning clinical services. Experienced, skilled health care practitioners will be identified jointly by local Title X service delivery sites and the training program as potential clinical preceptors.

It is anticipated that one course, with a standard curriculum, will be developed, and will include a process for verifying the knowledge and skill level of proposed participants related to the topics identified under General Requirements upon beginning and after completion of the course.

In addition to health care practitioners who do not have previous experience as clinical preceptors or clinical educators, it is anticipated that there will be health care practitioners working in Title X service provider agencies who already have such experience. The applicant should propose a process for validating knowledge and skills of experienced clinical preceptors or clinical educators as they relate to the requirements listed under General Requirements.

The applicant should develop the program work plan based on providing at least one preceptor training course in year one. Plans for future years will be negotiated during year one. The work plan for year one should propose an application process, criteria for selecting participants, number of health care practitioners to be trained, outline of proposed course curriculum, and location for training.

It is anticipated that the preceptor training course will occur on-site at a location or locations with access to clinical training facilities. Direct observation and assessment of preceptor students is required. Although it is possible that trainees will have reading assignments prior to attending the course, or that there may be ancillary uses for on-line learning, it is expected that most aspects of the preceptor training course will be provided at the selected location(s).

The successful applicant is also expected to devise a strategy for ongoing assessment and refresher training for trained and/or experienced preceptors. It is anticipated that this will include site visits to trained preceptors at least every two years, as well as a refresher training course every other year, beginning in the third year of the project.

Applicants are expected to propose a strategy for all aspects of the clinical preceptor training component. However, the final work plan for year one and training strategies will not be finalized until after funding. The successful applicant will work closely with the OFP project officer to determine the time line, number of preceptor training courses, length of courses, recruitment strategies, class sizes, and final plans for clinical preceptor training. In addition to finalizing the clinical preceptor course, final plans for the clinical preceptor refresher course (to be held every other year), as well as plans for preceptor training in subsequent years, will be negotiated with the OFP project officer. It is expected that an assessment of the training needs of clinical preceptors will be included in the planning process for the refresher course. All aspects of the preceptor course and the preceptor refresher course, including faculty, must be approved by the OFP project officer prior to implementation. Applicants should clearly describe the proposed approach to the following aspects of the preceptor training component:

A. Develop a Strategy for Training Clinical Preceptors

1. Identify core knowledge and skills for clinical family planning preceptors;

2. Develop structured, clinical preceptor training course, including:

a. Proposed didactic and clinical content

(1) Clinical knowledge and skills,

(2) Preceptor role, peer assessment, technical assistance/training techniques, and

(3) Other topics identified in General Requirements;

b. Methodology to ensure that course content is current, evidence-based, and updated on an ongoing basis;

c. Number/frequency/length/location(s) of preceptor training;

d. Number of preceptor students to be trained (total per year and per class).

3. Determine recruitment strategy with OFP Central and Regional Offices, and Title X service grantees (It is expected that recruitment visits will be made to half of the regions each year. This will be negotiated with the OFP project officer and OFP Regional Office program staff);

4. Develop selection criteria for potential preceptor trainees, including:

a. Health care practitioner,

b. Experience delivering family planning services in Title X-funded sites,

c. Academic preparation/experience,

d. Commitment from the sponsoring Title X-funded entity that the trainee will be utilized in the preceptor role upon return,

e. Commitment of medical director or other physician to act as resource person for clinical questions at local clinic site(s),

f. Other as proposed by applicant;

5. Develop/coordinate preceptor trainee commitment agreement to work as a preceptor following training;

6. Identify/resolve health care practitioner licensure and insurance issues around clinical training at selected training site(s);

7. Develop a process to verify clinical knowledge and skills of preceptor trainees before and after training;

8. Develop a process to assess/verify knowledge and skills of those experienced in the role of clinical preceptor or with experience as a health care practitioner clinical educator;

9. Make arrangements for clinical training site(s) for preceptor training;

10. Provide for continuing education credits for preceptor trainees (based on continuing education credit requirements for advanced practice nurses, physician assistants, and physicians).

B. Provide for Preceptor Training

1. Make arrangements/provide for all aspects of preceptor training (classroom, curriculum; materials, faculty, clinical sites, etc.);

2. Make arrangements/provide for lodging for preceptor trainees (transportation and per diem will be paid by sponsoring agency; however, it is expected that the family planning clinical training program will set aside funds to assist in defraying lodging expenses for preceptor trainees).

C. Develop Ongoing Assessment and Clinical Preceptor Update Process

1. Make site visits to trained preceptors at preceptors' local work site(s) every other year. Site visits will include observation of clinical practice and preceptor activities; documentation of number of clinicians precepted and nature of assessment/training/technical assistance provided by preceptor; on-site technical assistance as appropriate; issues identification; discussion with Title X clinic/project manager; other as appropriate;

2. Identify/develop clinical refresher/quality assessment course, including updates on methods of objective assessment, clinical training/technical assistance, and mentoring.

a. Content—evidence-based, current information related to family planning, related preventive health issues and standards, topics related to the legislative mandates, and other issues and topics as identified during course of the project;

b. Length/location(s);

c. Explore feasibility of using electronic technologies for providing refresher training;

d. Arrange for and assist with costs of lodging for trained preceptor participants.

D. Evaluate Training—Preceptor Training and Preceptor Refresher Training

1. Process

a. Planning

b. Implementation

c. Participation/utilization

d. Output

2. Impact, including improved ability of health care practitioners to provide quality family planning services, and other as identified by applicant and OFP project officer.

II. Conduct National Clinical Training Meeting

Beginning in year two of the project period, it is expected that the successful applicant will plan and conduct a national clinical training meeting for up to 300 participants that provides current, relevant, evidence-based information on clinical topics related to family planning and related reproductive and preventive health issues for men and women for the purpose of maintaining and improving the quality of family planning services in Title X projects. Planning for this meeting will begin during the first year of the project period.

The primary participants at this meeting will be health care practitioners and registered professional nurses working in Title X-funded family planning programs. Others may participate as space allows. It is expected that persons working in Title X-funded agencies will attend at nominal or no charge, and that non-Title X participants will be charged an appropriate registration fee. Continuing education credits, appropriate to the educational preparation of health care practitioners and registered professional nurses, should be provided. The successful applicant will be responsible for all costs associated with planning and conducting the meeting. This does not include personal participant expenses such as travel, lodging, or per diem.

In close collaboration with the OFP project officer, the successful applicant will be responsible for all aspects of planning, producing, and evaluating the national clinical training meeting. All aspects of the meeting, including, but not limited to, agenda, speakers, and meeting location, will be approved by the OFP project officer prior to implementation. At a minimum, the successful applicant will be responsible for the following, and should address each in the project proposal:

A. Plan Meeting

1. Develop meeting budget;

2. Planning committee;

3. Meeting logistics (hotel, location, set-up, all meeting arrangements, etc. Hotel room cost should not exceed most current Federal lodging rates);

4. Arrange for/communicate with speakers/moderators, including travel (all travel/per diem should not exceed Federal government rates; cost per speaker should not exceed $2,000 for travel expenses and consultant fees);

5. Prepare for AV needs;

6. Develop invitation list of Title X grantee and sub-grantee agencies, and others

7. Design and disseminate meeting information/registration/etc. (including save the date announcements);

8. Coordinate agenda development;

9. Produce meeting materials (signage, packets, notebooks, name tags, etc.);

10. Any other activities/responsibilities for planning the meeting, working with collaborators and speakers, and disseminating meeting information.

B. Manage Meeting On-site

1. Assess set-up/modify as needed (including AV);

2. Coordinate with hotel/meeting site throughout meeting;

3. Set up for registration and materials dissemination;

4. Staff registration table throughout meeting;

5. Coordinate speaker arrival/address needs (speaker ready-room);

6. Identify and appropriately address issues that arise throughout meeting;

7. Manage all on-site meeting issues (financial, logistics, etc.);

8. Any other issues related to managing the meeting on-site.

C. Follow-up

1. Evaluate meeting

a. Process of planning and conducting meeting,

b. Outcome, including meeting participation and participant evaluation which includes assessment of anticipated impact on provision of quality family planning services;

2. Produce/disseminate proceedings;

3. Compile/disseminate information or materials identified/developed as a result of the meeting;

4. In collaboration with OFP, produce/disseminate speaker/moderator thank-you letters/other correspondence as necessary;

5. Ensure all meeting expenses are finalized and paid;

6. Produce and submit final meeting accounting and evaluation report;

7. Any other meeting follow-up identified and agreed upon by OFP and the successful applicant.

Schedule of Cooperative Agreement Requirements—The following represents an overview of general activities for each year of the project, assuming a four-year project period. This is not expected to be an exhaustive list, but rather to provide a general outline of expectations throughout the project period. It is expected that the successful applicant will have ongoing communication with the OFP project officer, and will meet with the OFP project officer, Director, OFP, and others identified by the OFP at least every three months during years one and two of the project. The applicant should plan for these meetings to occur at the OFP office in Rockville, MD. The meeting schedule for years three and four will be negotiated during year two of the project. It is expected that the successful applicant will maintain flexibility in schedule and resource planning in order to respond to emerging needs, lessons learned, and annual Title X program priorities. Budgets should reflect required communication and required meetings.

Year One

1. Within 30 days of date of Notice of Grant Award (NGA)—Meet with OFP in Rockville, MD.

2. First half of Year 1

a. Develop detailed time line for years one and two of project period;

b. Establish Clinical Training Center operations, including finalizing faculty and staff;

c. Finalize admissions criteria for selection of health care practitioners to attend the preceptor course;

d. Develop assessment process for experienced preceptors and/or clinical educators;

e. Finalize initial preceptor course curriculum;

f. Finalize location(s) for preceptor training course;

g. Finalize plans for initial preceptor training course;

h. Begin planning National Clinical Training Meeting.

3. Second half of Year 1

a. Conduct first preceptor training course;

b. Continue planning National Clinical Training Meeting;

c. Begin developing site visit protocol and schedule.

Year Two

1. First half of Year 2

a. Provide comprehensive progress report for Year One as part of continuation application;

b. Continue planning National Clinical Training Meeting;

c. Continue planning/evaluating/revising/conducting preceptor training course;

d. Continue development of protocol and schedule for preceptor site visits.

e. Begin planning preceptor refresher training course;

2. Second half of Year 2

a. Conduct/Evaluate/Report on National Clinical Training Meeting;

b. Continue planning/evaluating/revising/conducting preceptor training course;

c. Finalize protocol and schedule for preceptor site visits to assess preceptor competence at home site;

d. Continue planning preceptor refresher training course;

e. Develop detailed time line for years three and four of the family planning clinical training project.

Year Three

1. First half of Year 3

a. Provide comprehensive progress report for Year Two;

b. Continue planning/evaluating/revising/conducting preceptor training course;

c. Begin planning National Clinical Training Meeting for Year Four;

d. Begin preceptor site visits;

e. Finalize preceptor refresher training course.

2. Second half of Year 3

a. Conduct/evaluate first preceptor refresher training course;

b. Continue planning National Clinical Training Meeting;

c. Revise site visit protocol as needed/continue preceptor site visits;

d. Continue preceptor training/evaluation.

Year Four

1. First half of Year 4

a. Provide comprehensive progress report for Year Three;

b. Continue planning National Clinical Training Meeting;

c. Continue preceptor site visits and evaluation;

d. Continue preceptor training/evaluation.

2. Second half of Year 4

a. Conduct/evaluate/report on National Clinical Training Meeting;

b. Complete preceptor site visits and evaluation.

3. Submission Dates and Times. Submission Mechanisms. The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic Submissions Via the OPHS eGrants System

The OPHS electronic grants management system, eGrants, provides for applications to be submitted electronically. Information about this system is available on the OPHS eGrants Web site, https://egrants.osophs.dhhs.gov, or may be requested from the OPHS Office of Grants Management at (240) 453-8822.

The body of the application and required forms can be submitted using the OPHS eGrants system. In addition to electronically submitted materials, applicants are required to submit a hard copy of the application face page (Standard Form 424) with the original signature of an individual authorized to act for the applicant agency or organization and to assume for the organization the obligations imposed by the terms and conditions of the grant award. If required, applicants will also need to submit a hard copy of the Standard Form LLL and/or certain Program related forms with the original signature of an individual authorized to act for the applicant agency or organization. The application will not be considered complete until both the electronic application components submitted via the OPHS eGrants system and any hard copy materials or original signatures are received.

Electronic grant application submissions must be submitted via the OPHS eGrants system no later than 5 p.m. Eastern Time on the deadline date specified in the DATES section of the announcement. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Any application submitted electronically after 5 p.m. Eastern Time on the deadline date specified in the DATES section of the announcement will be considered late and will be deemed ineligible. Failure of the applicant to submit all required hardcopy original signatures and required mail-in items to the OPHS Office of Grants Management by 5 p.m. Eastern Time on the next business day after the deadline date specified in the DATES section of the announcement will result in the electronic application being deemed ineligible.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Applicants are encouraged to initiate electronic applications early in the application development process, and to submit early on the due date or before. This will aid in addressing any problems with submissions prior to the application deadline.

Electronic Submissions Via the Grants.gov Web Site Portal

The Grants.gov Web site Portal provides for applications to be submitted electronically. Information about this system is available on the Grants.gov Web site, http://www.grants.gov.

The body of the application and required forms can be submitted using the Grants.gov Web site Portal. Grants.gov allows the applicant to download and complete the application forms at any time, however, it is required that organizations successfully complete the necessary registration processes in order to submit the application to Grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, excluding the standard forms included in the Grants.gov application package (e.g., Standard Form 424 Face Page, Standard Assurances and Certifications (Standard Form 424B, and Standard Form LLL) must be submitted separately via mail to the OPHS Office of Grants Management, and, if required, must contain the original signature of an individual authorized to act for the applicant agency or organization and to assume for the organization the obligations imposed by the terms and conditions of the grant award.

Electronic grant application submissions must be submitted via the Grants.gov Web site Portal no later than 5 p.m. Eastern Time on the deadline date specified in the DATES section of the announcement. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Any application submitted electronically via the Grants.gov Web site Portal after 5 p.m. Eastern Time on the deadline date specified in the DATES section of the announcement will be considered late and will be deemed ineligible. Failure of the applicant to submit all required hardcopy original signatures or materials to the OPHS Office of Grants Management by 5 p.m. Eastern Time on the next business day after the deadline date specified in the DATES section of the announcement will result in the electronic application being deemed ineligible.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants are encouraged to initiate electronic applications via the Grants.gov Web site Portal early in the application development process, and to submit early on the due date or before. This will aid in addressing any problems with submissions prior to the application deadline.

Applicants should contact Grants.gov regarding any questions or concerns regarding the electronic application process conducted through the Grants.gov Web site Portal.

Mailed or Hand-Delivered Hard Copy Applications

Applicants who submit applications in hard copy (via mail or hand-delivered) are required to submit an original and two copies of the application. See Section IV.1. for the address to submit hard copy applications. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review: Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC should forward any comments to the OPHS Office of Grants Management, 1101 Wootton Parkway, Suite 550, Rockville, Maryland 20852. The SPOC has 60 days from the due date as listed in the DATES section of this announcement to submit any comments. For further information, contact the OPHS Office of Grants Management at 240-453-8822.

5. Funding Restrictions: The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

Indirect costs are limited to eight percent (8%) of modified total direct costs as a flat amount for reimbursement under training grants (Grants Policy Directive Part 3.01: Post-Award-Indirect Cost and other Cost Policies, HHS transmittal 98.01).

6. Other Submission Requirements: None.

V. Application Review Information

1. Criteria: Eligible cooperative agreement applications will be reviewed according to the following criteria, as set out in the Title X family planning training regulations at 42 CFR 59.206:

1. The degree to which the project plan adequately provides for the requirements set forth in the Title X regulations at 42 CFR 59.205 (20 points);

2. The extent to which the training program promises to fulfill the family planning services delivery needs of the area to be served, which may include among other things:

(i) Development of a capability within family planning service projects to provide pre- and in-service training to their own staffs;

(ii) Improvement of the family planning services delivery skills of family planning and health services personnel;

(iii) Expansion of family planning services, particularly in rural areas, through new or improved approaches to program planning and deployment of resources, including clinical personnel; (20 points total for this section)

3. The administrative and management capability and competence of the applicant (20 points);

4. The extent to which the training program will increase the delivery of services to people, particularly low-income groups, with a high percentage of unmet need for family planning services (15 points);

5. The competence of the applicant project staff in relation to the services to be provided, including demonstration of academic, clinical, and teaching competence of proposed faculty (15 points); and

6. The capacity of the applicant to make rapid and effective use of the grant assistance, including evidence of flexibility in the utilization of resources and in training plan design (10 points).

2. Review and Selection Process: The Office of Family Planning/Office of Population Affairs is responsible for evaluating applications and setting funding levels according to the requirements set out in 42 CFR 59.206. Eligible applications will be reviewed by a panel of independent reviewers and will be evaluated based on the criteria listed above. In addition to the independent review panel, there will be Federal staff reviews of each application for programmatic and grants management compliance.

Final award decisions will be made collaboratively by the Deputy Assistant Secretary for Population Affairs (DASPA) and the Director, OFP. In making award decisions, one cooperative agreement will be awarded which best promotes the purposes of sections 1001 (family planning services) and 1003 (family planning training) of the Public Health Service Act, and the requirements of the cooperative agreement as described in this announcement. The decision will take into account the reasonableness of the estimated cost considering available funding, and the likelihood that the project activities will result in the benefits expected.

VI. Award Administration Information

1. Award Notices

The OPA does not release information about individual applications during the review process. When final funding decisions have been made, each applicant will be notified by letter of the outcome. The official document notifying an applicant that a project application has been approved for funding is the Notice of Grant Award (NGA), signed by the Director of the OPHS Office of Grants Management. This document specifies to the successful applicant the amount of money awarded, the purposes of the cooperative agreement, the length of the project period, terms and conditions of the cooperative agreement award, and the amount of funding, if any, to be contributed by the grantee to project costs. In addition, the NGA identifies the OPHS OGM grants specialist and OFP project officer assigned to the cooperative agreement.

This cooperative agreement grant will be awarded for a project period of up to four years, and will be funded in annual increments (budget periods). Funding for all approved budget periods beyond the first year of the cooperative agreement is contingent upon submission and approval of a non-competing continuation application, satisfactory progress of the project, efficient and effective use of cooperative agreement funds, and the continued availability of funds.

2. Administrative and National Policy Requirements

In accepting this award, the cooperative agreement grant recipient stipulates that the award and any activities thereunder are subject to all provisions of 45 CFR parts 74 and 92, currently in effect or implemented during the period of the cooperative agreement.

The successful applicant will be responsible for the overall management of activities within the scope of the approved project plan, and will be required to work closely with the OFP project officer. The project officer will review and approve all aspects of the planning, implementation, and evaluation of the project components, as well as plans for the use of resources as part of this cooperative agreement. Within 30 days of Notice of Grant Award, the successful applicant is expected to meet with the OFP project officer; Director, OFP; and others at the OFP Central Office in Rockville, MD to finalize a time line and schedule for activities for years one and two of the project. Planning for years three and four of the project, if approved, will be developed and approved during year two of the project.

The OPHS requires all grant recipients to provide a smoke-free workplace and to promote the non-use of all tobacco products. This is consistent with the OPHS mission to protect and advance the physical and mental health of the American people.

The HHS Appropriations Act requires that when issuing statements, press releases, requests for proposals, bid solicitations, and other documents describing projects or programs funded in whole or in part with Federal money, grantees shall clearly state the percentage and dollar amount of the total costs of the program or project which will be financed with Federal money, and the percentage and dollar amount of the total costs of the project or program that will be financed by non-governmental sources.

Federal support must be acknowledged in any publication developed or training provided using Title X funds. All publications developed or purchased with Title X funds must be consistent with the requirements of the program. The cooperative agreement grantee will be expected to make available, at cost, all materials developed with Title X funds as requested by other Title X projects.

3. Reporting

Each year of the project period, the cooperative agreement grantee is required to submit a non-competing application which includes an annual progress report, project work plan, budget, and budget justification for the upcoming year. The progress report must contain, at a minimum, a report on the evaluation of the training program as a whole, as well as the following data related to all training activities supported with cooperative agreement funds:

For preceptor training and preceptor refresher courses: (a) Training curriculum; (b) location(s); (c) hours of didactic/hours of clinical training; (d) faculty; (e) number of participants; (f) educational background of participants; (g) agencies sponsoring participants; (h) evaluation summary; (i) credit hours or CEUs available. For site visits: (a) location, grantee, clinic(s), and provider(s) visited; (b) clinical training program staff making visit; (c) assessment process; (d) evaluate log of preceptor activities, including clinicians receiving preceptor assessment, training, and/or technical assistance and the nature of such; (e) outcome of assessment; (f) recommendations for further training or technical assistance.

The cooperative agreement grantee is required to submit an annual Financial Status Report (FSR) within 90 days after the end of each budget period. Agencies that receive a total of $500,000 or greater of Federal funds must undergo an independent audit in accordance with OMB Circular A-133.

Required reports may be submitted either electronically or in hard copy.

VII. Agency Contacts

Administrative and Budgetary Requirements

For information related to administrative and budgetary requirements, contact Eleanor Walker, OPHS Office of Grants Management, 1101 Wootton Parkway, Suite 550, Rockville, MD 20852; 240-453-8822; eleanor.walker@hhs.gov.

Program Requirements

For information related to family planning program requirements, contact Susan Moskosky, Director, Office of Family Planning/Office of Population Affairs, 1101 Wootton Parkway, Ste. 700, Rockville, MD 20852, 240-453-2888; susan.moskosky@hhs.gov.

VIII. Other Information

Definitions: For the purposes of this announcement, the following definitions apply:

Application—A request for financial support of a project submitted to OPA on specified forms and in accordance with instructions provided.

Cooperative Agreement—An award instrument of financial assistance where “substantial involvement” is anticipated between the HHS awarding agency and the recipient during performance of the contemplated project or activity. “Substantial involvement” means that the recipient can expect Federal programmatic collaboration or participation in managing the award. The entity that receives a Federal cooperative agreement assumes the legal and financial responsibility and accountability for the awarded funds and performance of activities approved for funding, and is held to all requirements for Federal grants.

Evidence-based—Relevant scientific evidence that has undergone comprehensive review and rigorous analysis.

Family planning training—Job-specific skill development, the purpose of which is to promote and improve the delivery of family planning services. Further description of family planning services may be found in the authorizing legislation, implementing regulations, and program guidelines. These are provided as part of this application package.

Family planning clinical training—Specialized, evidence-based family planning training, the purpose of which is to promote and improve the knowledge, skills, and attitudes of persons delivering hands-on clinical family planning services.

Health care practitioner—An advanced practice nurse, physician's assistant, Doctor of Medicine or Doctor of Osteopathy who is recognized by a state to practice within the scope of the applicable state practice act or law.

Project—Those activities described in the cooperative agreement application and supported under the approved budget.

Technical Assistance Conference Call: There will be an opportunity for prospective applicants to participate in a technical assistance conference call to be held within one month after publication of this Notice in the Federal Register. For more information regarding this opportunity, including date, registration information, and how to join the call, please consult the OPA Web site at http://opa.osophs.dhhs.gov.

Dated: May 19, 2006.
Alma L. Golden,
Deputy Assistant Secretary for Population Affairs.

[FR Doc. E6-8458 Filed 5-31-06; 8:45 am]

BILLING CODE 4150-34-P